NATIONAL AERONAUTICS AND SPACE ADMINISTRATION

[Notice 04-005]

Notice of Prospective Patent License

AGENCY: National Aeronautics and Space Administration.

ACTION: Notice of prospective patent license.

SUMMARY: NASA hereby gives notice that Every Little Bit, Incorporated, of 1611 South Utica #316, Tulsa, Oklahoma 74104, has applied for an exclusive license to practice the invention disclosed in NASA Case No. LAR 16324-1 entitled “Self-Activating System and Method for Alerting When an Object or a Person Is Left Unattended,” for which a U.S. Patent Application was filed and assigned to the United States of America as represented by the Administrator of the National Aeronautics and Space Administration. Written objections to the prospective grant of a license should be sent to NASA Langley Research Center. NASA has not yet made a determination to grant the requested license and may deny the requested license even if no objections are submitted within the comment period.

DATE(S): Responses to this notice must be received by January 30, 2004.

FOR FURTHER INFORMATION CONTACT: Kurt G. Hammerle, Patent Attorney, Mail Stop 212, NASA Langley Research Center, Hampton, VA 23681-2199. Telephone (757) 864-2470; Fax (757) 864-9190.

Dated: January 8, 2004.
Robert M. Stephens,
Deputy General Counsel.

[FR Doc. 04-839 Filed 1-14-04; 8:45 am]

BILLING CODE 7510-01-P